TENNESSEE VALLEY AUTHORITY

Meeting of the Regional Energy Resource Council

AGENCY: Tennessee Valley Authority (TVA).

ACTION: Notice of meeting.

SUMMARY: The TVA Regional Energy Resource Council (RERC) will hold a virtual meeting on Wednesday, October 14, 2020, regarding regional energy related issues in the Tennessee Valley.

DATES: The meeting will be held on Wednesday, October 14, 2020, from 9:30 a.m. to 12:00 p.m. EDT, followed by a 1 hour lunch break and reconvene at 12:55 p.m. EDT. The afternoon session will end no later than 3:30 p.m. EDT.

ADDRESSES: The meeting is virtual and open to the public. Public members must preregister at the following link: https://bit.ly/RercOct14. Anyone needing special accommodations should let the contact below know at least a week in advance.

FOR FURTHER INFORMATION CONTACT: Cathy Coffey, ccoffey@tva.gov or 865/632-4494.

SUPPLEMENTARY INFORMATION: The RERC was established to advise TVA on its energy resource activities and the priorities among competing objectives and values. Notice of this meeting is given under the Federal Advisory Committee Act (FACA), 5 U.S.C. App.2.

The meeting agenda includes the following:

1. Welcome and Introductions

2. TVA Updates

3. Presentations Regarding TVA Electric Vehicle Strategy

4. Public Comments

5. Council Discussion

The RERC will hear views of citizens by providing a public comment session running from 1:00 p.m.-1:30 p.m. EDT, that day. Persons wishing to speak must register at ccoffey@tva.gov by 5:00 p.m. EDT, on Tuesday, October 13, 2020, and will be called on during the public comment period for up to two minutes to share their views. Written comments are also invited and may be mailed to the Regional Energy Resource Council, Tennessee Valley Authority, 400 West Summit Hill Drive, WT 9D, Knoxville, Tennessee 37902.

Dated: September 25, 2020.
Joseph J. Hoagland,
Vice President, Innovation and Research, Tennessee Valley Authority.

[FR Doc. 2020-21747 Filed 9-30-20; 8:45 am]

BILLING CODE 8120-08-P